DEPARTMENT OF ENERGY

Federal Energy Regulatory Commission

[Project No. 12715-001]

Fairlawn Hydroelectric Company, LLC; Notice of Application Tendered for Filing With the Commission and Establishing Procedural Schedule for Licensing and Deadline for Submission of Final Amendments

January 6, 2011.

Take notice that the following hydroelectric application has been filed with the Commission and is available for public inspection.

a. Type of Application: Original Major License.

b. Project No.: 12715-001.

c. Date Filed: December 23, 2010.

d. Applicant: Fairlawn Hydroelectric Company, LLC.

e. Name of Project: Jennings Randolph Hydroelectric Project.

f. Location: The proposed project would be at the U.S. Army Corps of Engineers' Jennings Randolph dam located on the North Branch Potomac River in Garrett County, Maryland and Mineral County, West Virginia. The project would occupy 5.0 acres of federal land managed by the U.S. Army Corps of Engineers.

g. Filed Pursuant to: Federal Power Act, 16 U.S.C. §§ 791(a)-825(r).

h. Applicant Contact: Clifford Phillips, Fairlawn Hydroelectric Company LLC, 150 North Miller Road, Suite 450 C, Fairlawn, OH 44333; Telephone (330) 869-8451.

i. FERC Contact: Michael Spencer, (202) 502-6093 or michael.spencer@ferc.gov.

j. This application is not ready for environmental analysis at this time.

k. The Project Description: The proposed Jennings Randolph Project would use the existing Corps of Engineers' Jennings Randolph dam and reservoir and consist of the following proposed features: (1) A 10-foot-diameter, 530-foot-long underwater multi-level intake structure with 24 intake ports to be built on the upstream face of the dam; (2) a 10-foot-diameter, 1,400-foot-long lined tunnel through the dam; (3) a 10-foot-diameter, 1,100-foot-long penstock; (4) the penstock would bifurcate into 96-inch-diameter and 66-inch-diameter penstocks at the entrance to the powerhouse; (5) a powerhouse approximately 54 feet long, 54 feet wide, and 40 feet high that would contain two generating units with a total capacity of 14.0 megawatts; (6) a 40-foot-long tailrace; (7) a 0.7-mile-long, 25-kilovolt partially buried transmission line; (8) a substation; and (9) new compacted gravel access roads to be constructed to the powerhouse and along the transmission line to the project's substation. The proposed project would have an estimated average annual generation of 56,000 megawatt-hours and would bypass 150 feet of the North Branch Potomac River.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis (when FERC approved studies are complete) | February 21, 2011.
Filing of recommendations, preliminary terms and conditions, and fishway prescriptions | April 22, 2011.
Commission issues Non-Draft EA | August 20, 2011.
Comments on EA | October 4, 2011.
Modified terms and conditions | December 5, 2011.

o. Final amendments to the application must be filed with the Commission no later than 30 days from the issuance date of the notice of ready for environmental analysis.

Kimberly D. Bose,
Secretary.

[FR Doc. 2011-543 Filed 1-12-11; 8:45 am]

BILLING CODE 6717-01-P